DEPARTMENT OF LABOR

Occupational Safety and Health Administration

[Docket No. ICR-1218-0NEW-(2006)-01]

Peer Review, Conflict of Interest and Disclosure Form; Request for the Office of Management and Budget's (OMB) Approval of Information Collection (Paperwork) Requirements

AGENCY: Occupational Safety and Health Administration (OSHA), labor.

ACTION: Request for public comment.

SUMMARY: OSHA solicits public comment on the proposed Conflict of Interest and Disclosure Form (COI) form, which will be used to determine whether or not a conflict of interest exists for a potential peer review panel member.

DATES: Comments must be submitted by the following dates:

Hard copy: Your comments must be submitted (postmarked or received) by October 6, 2006.

Facsimile and electronic transmission: Your comments must be received by October 6, 2006.

ADDRESSES: You may submit comments, identified by OSHA Docket No. ICR-1218-0NEW-01-(2006), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 to 4:45 p.m., e.t.

Facsimile: If your comments are 10 pages or fewer, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Todd Owen at the address below to obtain a copy of the ICR. For additional information on submitting comments, please see the “Public Participation” section in SUPPLEMENTARY INFORMATION.

FOR FURTHER INFORMATION CONTACT: Todd Owen, Directorate of Standards and Guidance, OSHA, Room N-3609, 200 Constitution Avenue, NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate. The Occupational Safety and Health Administration conducts peer reviews to review a draft product for quality by specialists in the field who were not involved in producting the draft. The selection of participants in a peer review is based on expertise, with due consideration of independence. The Office of Management and Budget published the Final Information Quality Bulletin for Peer Review on December 15, 2004. The Bulletin states “* * * the agency must address reviewers' potential conflicts of interest (including those stemming from ties to regulated businesses and other stakeholders) and independence from the agency.” The Bulletin requires agencies to adopt or adapt the committee selection policies employed by the National Academy of Sciences (NAS) when selecting peer reviewers who are not government employees. To fulfill this requirement OSHA has developed a Conflict of Interest and Disclosure Form, based on NAS, Conflict of Interest Disclosure form. This form will be used to determine whether or not a conflict exists for a potential peer review panel member.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting OMB to approve OSHA's COI form. The COI form would add 27 hours to OSHA's 114 million burden hour inventory. The Agency will summarize the comments submitted in response to this notice, and will include this summary in its request to OMB.

Type of Review: New information collection requirements.

Title: OSHA's Conflict of Interest and Disclosure Form (COI) form.

OMB Number: 1218-0NEW.

Affected Public: Individuals or households.

Number of Respondents: 36.

Frequency: On occasion.

Average Time Per Response: One half hour for respondents to complete Tier 1 for “influential scientific assessments;” and 1 hour for respondent to complete both Tier 1 and Tier 2 for “highly influential scientific assessments.”

Estimated Total Burden Hours: 27 hours.

Estimated Cost (Operation and Maintenance): $0

IV. Public Participation—Submission of Comments on this Notice and Internet Access to Comments and Submissions.

You may submit comments and supporting materials in response to this notice by (1) hardy copy, (2) FAX transmission (facsimile), or (3) electronically through the OSHA Web page. Because of security-related problems, there may be a significant delay in the receipt of comments by regular mail. Please contact the OSHA Docket Office at (202) 693-2350 (FFY (877) 889-5627) for information about security procedures concerning the delivery of submissions by express delivery, hand delivery, and courier service.

All comments, submissions, and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Since all submissions become public, private information such as social security numbers should not be submitted.

V. Authority and Signature

Edwin G. Foulke, Jr., Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on July 31, 2006.
Edwin G. Foulke, Jr.,
Assistant Secretary of Labor.

[FR Doc. 06-6738 Filed 7-4-06; 8:45 am]

BILLING CODE 4510-26-M